DEPARTMENT OF THE TREASURY

Internal Revenue Service

Agency Information Collection Activities; Comment Request on U.S. Tax-Exempt Organization Returns and Related Forms

AGENCY: Internal Revenue Service (IRS), Treasury.

ACTION: Notice of information collection; request for comments.

SUMMARY: In accordance with the Paperwork Reduction Act of 1995, the IRS is inviting comments on the information collection request outlined in this notice.

DATES: Written comments should be received on or before September 23, 2025 to be assured of consideration.

ADDRESSES: Direct all written comments to Andres Garcia, Internal Revenue Service, Room 6526, 1111 Constitution Avenue NW, Washington, DC 20224, or by email to pra.comments@irs.gov. Include “OMB Control No. 1545-0047” in the subject line of the message.

FOR FURTHER INFORMATION CONTACT: View the latest drafts of the tax forms related to the information collection listed in this notice at https://www.irs.gov/draft-tax-forms. Requests for additional information or copies of this collection should be directed to Marcus McCrary, (470) 769-2001.

SUPPLEMENTARY INFORMATION: The IRS, in accordance with the Paperwork Reduction Act of 1995 (PRA) (44 U.S.C. 3506(c)(2)(A)), provides the general public and Federal agencies with an opportunity to comment on proposed, revised, and continuing collections of information. This helps the IRS assess the impact and minimize the burden of its information collection requirements. Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Tax Compliance Burden

Tax compliance burden is defined as the time and money taxpayers spend to comply with their tax filing responsibilities. Time-related activities include recordkeeping, tax planning, gathering tax materials, learning about the law, and completing and submitting the return. Out-of-pocket costs include expenses such as purchasing tax software, paying a third-party preparer, and printing and postage. Tax compliance burden does not include a taxpayer's tax liability, economic inefficiencies caused by sub-optimal choices related to tax deductions or credits, or psychological costs.

Proposed PRA Submission to OMB

Title: U.S. Tax-Exempt Organization Returns and Related Forms, Schedules, Attachments, and Published Guidance.

OMB Number: 1545-0047.

Form Numbers and Published Guidance: Forms 990, 990-EZ, 990-N, 990-PF, 990-T, and all related forms, schedules, and attachments.

Abstract: These forms, schedules, and attachments are used by tax-exempt organizations, nonexempt charitable trusts, and section 527 political organizations to provide the IRS with statutorily required information. Some members of the public rely on these forms as their primary or sole source of information about a particular organization. This information collection covers the burden associated with preparing and submitting tax-exempt organization returns and related forms, schedules, and attachments, and complying with published guidance.

Current Actions: There have been changes in regulatory guidance related to various forms approved under this approval package during the past year. There have been additions and removals of forms included in this approval package. It is anticipated that these changes will have an impact on the overall burden and cost estimates requested for this approval package, however these estimates were not finalized at the time of release of this notice. These estimated figures are expected to be available by the release of the 30-day comment notice from Treasury. This approval package is being submitted for renewal purposes.

Type of Review: Revision of a currently approved collection.

Affected Public: Tax-Exempt Organizations.

Preliminary Estimated Number of Respondents: 1,730,000.

Preliminary Estimated Total Time (Hours): 74,890,000.

Preliminary Estimated Time per Respondent (Hours): 43 hours 17 minutes.

Preliminary Estimated Monetized Time ($): 4,125,000,000.

Preliminary Estimated Out-of-Pocket Costs ($): 2,055,000,000.

Preliminary Estimated Total Monetized Burden ($): 6,180,000,000.

Note: Total Monetized Burden = Out-of-Pocket Costs + Monetized Time.

Marcus W. McCrary,
Tax Analyst.

Appendix-A—Forms and Schedules
Product | Title
1023 | Application for Recognition of Exemption Under Section 501(c)(3) of the Internal Revenue Code.
1023-EZ | Streamlined Application for Recognition of Exemption Under Section 501(c)(3) of the Internal Revenue Code.
1024 | Application for Recognition of Exemption Under Section 501(a).
1024-A | Application for Recognition of Exemption Under Section 501(c)(4) of the Internal Revenue Code.
1028 | Application for Recognition of Exemption Under Section 521 of the Internal Revenue Code.
1116 Sch B * | Foreign Tax Carryover Reconciliation Schedule.
1116 Sch C * | Foreign Tax Redeterminations.
1116 * | Foreign Tax Credit.
1120-POL * | US Income Tax Return for Certain Political Organizations.
1127 * | Application for Extension of Time for Payment of Tax Due to Undue Hardship.
1128 * | Application to Adopt, Change, or Retain a Tax Year.
2220 * | Underpayment of Estimated Tax by Corporations.
2848 * | Power of Attorney and Declaration of Representative.
3115 * | Application for Change in Accounting Method.
3468 * | Investment Credit.
3800 * | General Business Credit.
3800 (Schedule A) * | Transfer Election Statement.
4136 * | Credit for Federal Tax Paid on Fuels.
4255 * | Recapture of Investment Credit.
4562 * | Depreciation and Amortization.
461 * | Limitation on Business Loss.
4720 | Return of Certain Excise Taxes Under Chapters 41 and 42 of the Internal Revenue Code.
4797 * | Sale of Business Property.
5227 * | Split Interest Trust Information Return.
5471 Sch E * | Income, War Profits, and Excess Profits Taxes Paid or Accrued.
5471 Sch G-1 * | Cost Sharing Arrangement.
5471 Sch H * | Current Earnings and Profits.
5471 Sch I-1 * | Information for Global Intangible Low-Taxed Income.
5471 Sch J * | Accumulated Earnings & Profits (E&P) of Controlled Foreign Corporation.
5471 Sch M * | Transactions Between Controlled Foreign Corporation and Shareholders or Other Related Persons.
5471 Sch O * | Organization or Reorganization of Foreign Corporation, and Acquisitions and Dispositions of its Stock.
5471 Sch P * | Previously Taxed Earnings and Profits of U.S. Shareholder of Certain Foreign Corporations.
5471 Sch Q * | CFC Income by CFC Income Groups.
5471 Sch R * | Distributions From a Foreign Corporation.
5471 * | Information Return of U.S. Persons With Respect to Certain Foreign Corporations.
5578 | Annual Certification of Racial Nondiscrimination for a Private School Exempt From Federal Income Tax.
5884 * | Work Opportunity Credit.
5884-C | Work Opportunity Credit for Qualified Tax-Exempt Organizations Hiring Qualified Veterans.
5884-D | Employee Retention Credit for Certain Tax-Exempt Organizations Affected by Qualified Disasters.
6069 | Return of Certain Excise Taxes on Mine Operators, Black Lung Trusts, and Other Persons Under Sections 4951, 4952, and 4953.
6198 * | At-Risk Limitations.
6497 * | Information Return of Nontaxable Energy Grants or Subsidized Energy Financing.
7004 * | Application for Automatic Extension of Time To File Certain Business Income Tax, Information, and Other Returns.
7203 * | S Corporation Shareholder Stock and Debt Basis Limitations.
7204 * | Consent to Extend the Time to Assess Tax Related to Contested Foreign Income Taxes—Provisional Foreign Tax Credit Agreement.
7205 * | Energy Efficient Commercial Buildings Deduction.
7207 * | Advanced Manufacturing Production Credit.
7210 * | Clean Hydrogen Production Credit.
7220 * | Prevailing Wage and Apprenticeship (PWA) Verification and Corrections.
8038 | Information Return for Tax-Exempt Private Activity Bond Issues.
8038-B | Information Return for Build America Bonds and Recovery Zone.
8038-CP | Return for Credit Payments to Issuers of Qualified Bonds.
8038-CP Schedule A | Specified Tax Credit Bonds Interest Limit Computation.
8038-G | Information Return for Tax-Exempt Governmental Bonds.
8038-GC | Information Return for Small Tax-Exempt Governmental Bond Issues, Leases, and Installment Sales.
8038-R | Request for Recovery of Overpayments Under Arbitrage Rebate Provisions.
8038-T | Arbitrage Rebate, Yield Reduction and Penalty in Lieu of Arbitrage Rebate.
8038-TC | Information Return for Tax Credit Bonds and Specified Tax Credit Bonds.
8050 | Direct Deposit of Tax Exempt or Government Entity Tax Refund.
8282 | Donee Information Return.
8283 * | Noncash Charitable Contributions.
8283-V * | Payment Voucher for Filing Fee Under Section 170(f)(13).
8328 | Carryforward Election of Unused Private Activity Bond Volume Cap.
8330 | Issuer's Quarterly Information Return for Mortgage Credit Certificates (MCCs).
8453-TE | Tax Exempt Entity Declaration and Signature for Electronic Filing.
8453-X | Political Organization Declaration for Electronic Filing of Notice of Section 527 Status.
8621 * | Information Return by a Shareholder of a Passive Foreign Investment Company or Qualified Electing Fund.
8718 | User Fee for Exempt Organization Determination Letter Request.
8824 * | Like-Kind Exchanges.
8838 * | Consent to Extend the Time to Assess Tax Under Section 367—Gain Recognition Agreement.
8838-P * | Consent to Extend the Time to Assess Tax Pursuant to the Gain Deferral Method (Section 721(c)).
8864 * | Biodiesel, Renewable Diesel, or Sustainable Aviation Fuels Credit.
8865 Sch G * | Statement of Application of the Gain Deferral Method under Section 721(c).
8865 Sch H * | Acceleration Events and Exceptions Reporting Relating to Gain Deferral Method Under Section 721(c).
8865 Sch O * | Transfer of Property to a Foreign Partnership.
8865 Sch P * | Acquisitions, Dispositions, and Changes of Interest in a Foreign Partnership.
8865 * | Return of U.S. Persons with Respect to Certain Foreign Partnerships.
8868 | Application for Automatic Extension of Time To File an Exempt Organization Return.
8870 | Information Return for Transfers Associated With Certain Personal Benefit Contracts.
8871 | Political Organization Notice of Section 527 Status.
8872 | Political Organization Report of Contributions and Expenditures.
8879-TE | IRS e-file Signature Authorization for a Tax Exempt Entity.
8886 * | Reportable Transaction Disclosure Statement.
8886-T | Disclosure by Tax-Exempt Entity Regarding Prohibited Tax Shelter Transaction.
8896 * | Low Sulfur Diesel Fuel Production Credit.
8899 | Notice of Income From Donated Intellectual Property.
8906 * | Distilled Spirits Credit.
8908 * | Energy Efficient Home Credit.
8932 * | Credit for Employer Differential Wage Payments.
8940 | Request for Miscellaneous Determination.
8941 * | Credit for Small Employer Health Insurance Premiums.
8949 * | Sales and Other Dispositions of Capital Assets.
8976 | Notice of Intent to Operate Under Section 501(c)(4).
8995 * | Qualified Business Income Deduction Simplified Calculation.
8995-A Schedule A * | Specified Service Trades or Businesses.
8995-A Schedule B * | Aggregation of Business Operations.
8995-A Schedule C * | Loss Netting and Carryforward.
8995-A Schedule D * | Special Rules for Patrons of Agricultural or Horticultural Cooperatives.
8995-A * | Qualified Business Income Deduction.
926 * | Return by a U.S. Transferor of Property to a Foreign Corporation.
970 * | Application to Use LIFO Inventory Method.
990 | Return of Organization Exempt From Income Tax Under Section 501(c), 527, or 4947(a)(1) of the Internal Revenue Code (except private foundations).
990 Schedule A | Public Charity Status and Public Support.
990 Schedule B | Schedule of Contributors.
990 Schedule C | Political Campaign and Lobbying Activities.
990 Schedule D | Supplemental Financial Statements.
990 Schedule E | Schools.
990 Schedule F | Statement of Activities Outside the United States.
990 Schedule G | Supplemental Information Regarding Fundraising or Gaming Activities.
990 Schedule H | Hospitals.
990 Schedule I | Grants and Other Assistance to Organizations, Governments, and Individuals in the United States.
990 Schedule J | Compensation Information.
990 Schedule K | Supplemental Information on Tax-Exempt Bonds.
990 Schedule L | Transactions With Interested Persons.
990 Schedule M | Noncash Contributions.
990 Schedule N | Liquidation, Termination, Dissolution, or Significant Disposition of Assets.
990 Schedule O | Supplemental Information to Form 990 or 990-EZ.
990 Schedule R | Related Organizations and Unrelated Partnerships.
990-EZ | Short Form Return of Organization Exempt From Income Tax Under section 501(c), 527, or 4947(a)(1) of the Internal Revenue Code (except private foundations).
990-N | Form 990-N Electronic Notice (e-Postcard) for Tax-Exempt Organizations Not Required to File Form 990 or Form 990-EZ.
990-PF | Return of Private Foundation or Section 4947(a)(1) Trust Treated as Private Foundation.
990-T | Exempt Organization Business Income Tax Return (and proxy tax under section 6033(e)).
990-T Schedule A | Unrelated Business Taxable Income From an Unrelated Trade or Business.
990-W | Estimated Tax on Unrelated Business Taxable Income for Tax-Exempt Organizations (and on Investment Income for Private Foundations).

Appendix-B—Guidance Documents
Guidance | Title/description
Announcement 2004-38 | Election of Alternative Deficit Reduction Contribution.
Announcement 2004-43 | Election of Alternative Deficit Reduction Contribution.
Notice 2002-27 | IRA Required Minimum Distribution Reporting.
Notice 2004-59 | Plan Amendments Following Election of Alternative Deficit Reduction Contribution.
Notice 2005-41 | Guidance Regarding Qualified Intellectual Property Contributions.
Notice 2006-105 | Extension of Election of Alternative Deficit Reduction Contribution.
Notice 2006-107 | Diversification Requirements for Qualified Defined Contribution Plans Holding Publicly Traded Employer Securities.
Notice 2006-109 | Interim Guidance Regarding Supporting Organizations and Donor Advised Funds.
Notice 2007-70 | Charitable Contributions of Certain Motor Vehicles, Boats, and Airplanes. Reporting requirements under Sec. 170(f)(12)(D).
Notice 2008-113 | Relief and Guidance on Corrections of Certain Failures of a Nonqualified Deferred Compensation Plan to Comply with § 409A(a) in Operation.
Notice 2009-26 | Build America Bonds and Direct Payment Subsidy Implementation.
Notice 2009-31 | Election and Notice Procedures for Multiemployer Plans under Sections 204 and 205 of WRERA.
Notice 2010-6 | Relief and Guidance on Corrections of Certain Failures of a Nonqualified Deferred Compensation Plan to Comply with § 409A(a).
Notice 2010-80 | Modification to the Relief and Guidance on Corrections of Certain Failures of a Nonqualified Deferred Compensation Plan to Comply with § 409A(a).
Notice 2011-43 | Transitional Relief under Internal Revenue Code § 6033(j) for Small Organizations.
Notice 2012-48 | Tribal Economic Development Bonds.
Notice 2014-4 | Interim Guidance Regarding Supporting Organizations.
Notice 2015-83 | Tribal Economic Development Bonds: Use of Volume Cap for Draw-down Loans.
Notice 2017-9 | De Minimis Error Safe Harbor to the I.R.C. §§ 6721 and 6722 Penalties.
Notice 2021-56 | Standards that an LLC must Satisfy to be Exempt.
Notice 2023-38 | Domestic Content Bonus Credit Guidance under Sections 45, 45Y, 48, and 48E.
Notice 97-45 | Highly Compensated Employee Definition.
Publication 1075 | Tax Information Security Guidelines for Federal, State and Local Agencies.
Publication 4839 | Annual Form 990 Filing Requirements for Tax-Exempt Organizations (Forms 990, 990-EZ, 990-PF, 990-BL and 990-N (e-Postcard).
Revenue Procedure 80-27 | Group exemption letters.
Revenue Procedure 98-19 | Exceptions to the notice and reporting requirements of section 6033(e)(1) and the tax imposed by section 6033(e)(2).
Revenue Procedure 2004-15 | Waivers of Minimum Funding Standards.
Revenue Procedure 2008-62 and 2017-55 | Substitute Mortality Tables for Single Employer Defined Benefit Plans.
Revenue Procedure 2009-43 | Revocation of Elections by Multiemployer Defined Benefit Pension Plans to Freeze Funded Status under section 204 of WRERA.
Revenue Procedure 2010-52 | Extension of the Amortization Period for Plan Sponsor of a Multiemployer Pension Plan.
Revenue Procedure 2014-11 | Procedures for reinstating the tax-exempt status of organizations that have had their tax-exempt status automatically revoked under section 6033(j)(1) of the Internal Revenue Code (“Code”) for failure to file required Annual Returns or notices for three consecutive years.
Revenue Procedure 2014-40 | Procedures for applying for and for issuing determination letters on the exempt status under § 501(c)(3) of the Internal Revenue Code (Code) using Form 1023-EZ, Streamlined Application for Recognition of Exemption Under Section 501(c)(3) of the Internal Revenue Code.
Revenue Procedure 2014-55 | Election Procedures and Information Reporting with Respect to Interests in Certain Canadian Retirement Plans.
Revenue Procedure 2015-21 | Rulings and determination letters.
Revenue Procedure 2016-27 | Application Procedures for Approval of Benefit Suspensions for Certain Multiemployer Defined Benefit Pension Plans under § 432(e)(9).
Revenue Procedure 2017-43 | Application Procedures for Approval of Benefit Suspensions for Certain Multiemployer Defined Benefit Pension Plans under § 432(e)(9).
Revenue Procedure 2017-57 | Procedures for Requesting Approval for a Change in Funding Method.
Revenue Procedure 2018-4 | Updating Procedures for Guidance on Matters Under IRS TE/GE Division.
Revenue Procedure 2018-38 | Returns by exempt organizations and returns by certain non-exempt organizations.
Revenue Procedure 2021-37 | Pre-Approved Pension Plans.
Revenue Procedure 2021-48 | Examination of returns and claims for refund, credit or abatement; determination of correct tax liability.
Revenue Procedure 2022-14 | List of Automatic Changes.
Revenue Procedure 2023-1 | Rulings and Determination Letters.
Revenue Procedure 2023-4 | Types of Advice Available to Taxpayers.
Revenue Procedure 2024-5 | Procedures for Issuing Determination Letters.
Revenue Procedure 2023-24 | Changes in Accounting Periods and in Methods of Accounting.
Revenue Procedure 2023-38 | Domestic Content Bonus Credit Guidance under Sections 45, 45Y, 48, and 48E.
Revenue Ruling 2000-35 | Automatic Enrollment in Section 403(b) Plans.
TD 7845 | Inspection of Applications for Tax Exemption and Applications for Determination Letters for Pension and Other Plans.
TD 7852 | Registration Requirements with Respect to Debt Obligations.
TD 7898 | Employers Qualified Educational Assistance Programs.
TD 7952 | Indian Tribal Governments Treated As States For Certain Purposes.
TD 8002 | Substantiation of Charitable Contributions.
TD 8019 | Public Inspection of Exempt Organization Return.
TD 8033 | Tax Exempt Entity Leasing.
TD 8069 | Qualified Conservation Contributions.
TD 8073 | Effective Dates and Other Issues Arising Under the Employee Benefit Provisions of the Tax Reform Act of 1984.
TD 8086 | Election for $10 Million Limitation on Exempt Small Issues of Industrial Development Bonds; Supplemental Capital Expenditure Statements (LR-185-84 Final).
TD 8124 | Time and Manner of Making Certain Elections Under the Tax Reform Act of 1986.
TD 8357 | Certain cash or deferred arrangements (CODAs) and employee and matching contributions under employee plans.
TD 8376 | Qualified Separate Lines of Business.
TD 8396 | Regulations relating to a bank's determination of worthlessness of a debt.
TD 8400 | Taxation of Gain or Loss from Certain Nonfunctional Currency Transactions (Section 988 Transactions).
TD 8476 | Arbitrage Restrictions on Tax-Exempt Bonds.
TD 8540 | Final regulations relating to the valuation of annuities, interests for life or terms of years, and remainder or reversionary interests.
TD 8619 | Final regulations relating to eligible rollover distributions from tax-qualified retirement plans and section 403(b) annuities.
TD 8635 | Nonbank Trustee Net Worth Requirements.
TD 8690 | Deductibility, Substantiation, and Disclosure of Certain Charitable Contributions.
TD 8712 | Definition of Private Activity Bonds.
TD 8718 | Arbitrage Restrictions on Tax-Exempt Bonds.
TD 8769 | Permitted Elimination of Pre-retirement Optional Forms of Benefit.
TD 8791 | Guidance Regarding Charitable Remainder Trusts and Special Valuation Rules for Transfers of Interests in Trusts.
TD 8801 | Arbitrage Restrictions on Tax-Exempt Bonds.
TD 8802 | Certain Asset Transfers to a Tax-Exempt Entity.
TD 8814 | Federal Insurance Contributions Act (FICA) Taxation of Amounts Under Employee Benefit Plans.
TD 8816 | Roth IRAs.
TD 8861 | Private Foundation Disclosure Rules.
TD 8865 | Amortization of Intangible Property.
TD 8933 | Qualified Transportation Fringe Benefits.
TD 8978 | Excise Taxes on Excess Benefit Transactions (REG-246256-96).
TD 8987 | Required Distributions from Retirement Plans.
TD 9075 | Compensation Deferred Under Eligible Deferred Compensation Plans.
TD 9076 | Special Rules Under Section 417(a)(7) for Written Explanations Provided by Qualified Retirement Plans After Annuity Starting Dates.
TD 9079 | Ten or More Employer Plan Compliance Information.
TD 9083 | Golden Parachute Payments.
TD 9088 | Compensatory Stock Options Under Section 482.
TD 9092 | Split-Dollar Life Insurance Arrangements.
TD 9097 | Arbitrage Restrictions Applicable to Tax-Exempt Bonds Issued by State and Local Governments.
TD 9099 | Disclosure of Relative Values of Optional Forms of Benefit.
TD 9142 | Deemed IRAs in Qualified Retirement Plans.
TD 9169 | Retirement plans; Cash or deferred arrangements under section 401(k) and matching contributions or employee contributions under section 401(m) Regulations.
TD 9237 | Designated Roth Contributions to Cash or Deferred Arrangements Under Section 401(k).
TD 9324 | Designated Roth Contributions Under Section 402A.
TD 9334 | Requirement of Return and Time for Filing.
TD 9340 | Revised Regulations Concerning Section 403(b) Tax-Sheltered Annuity Contracts.
TD 9447 | Automatic Contribution Arrangements.
TD 9472 | Notice Requirements for Certain Pension Plan Amendments Significantly Reducing the Rate of Future Benefit Accrual.
TD 9492 | Excise Taxes on Prohibited Tax Shelter Transactions and Related Disclosure Requirements; Disclosure Requirements with Respect to Prohibited Tax Shelter Transactions; Requirement of Return and Time for Filing.
TD 9495 | Qualified Zone Academy Bonds: Obligations of States and Political Subdivisions.
TD 9641 | Reduction or Suspension of Safe Harbor Contributions.
TD 9708 | Additional Requirements for Charitable Hospitals; Community Health Needs Assessments for Charitable Hospitals; Requirement of a Section 4959 Excise Tax Return and Time for Filing the Return.
TD 9724 | Summary of Benefits and Coverage, Uniform Glossary for ACA Group Health Plans.
TD 9741 | General Allocation and Accounting Regulations Under Section 141; Remedial Actions for Tax-Exempt Bonds.
TD 9765 | Suspension of Benefits under the Multiemployer Pension Reform Act of 2014.
TD 9777 | Arbitrage Guidance for Tax-Exempt Bonds.
TD 9801 | Issue Price Definition for Tax-Exempt Bonds.
TD 9845 | Public Approval of Tax-Exempt Private Activity Bonds.
TD 9846 | Regulations Regarding the Transition Tax Under Section 965 and Related Provisions.
TD 9855 | Regulations To Prescribe Return and Time for Filing for Payment of Section 4960, 4966, 4967, and 4968 Taxes and To Update the Abatement Rules for Section 4966 and 4967 Taxes.
TD 9866 | Guidance Related to Section 951A (Global Intangible Low-Taxed Income) and Certain Guidance Related to Foreign Tax Credits.
TD 9873 | Regulations on the Requirement To Notify the IRS of Intent To Operate as a Section 501(c)(4) Organization.
TD 9898 | Guidance Under Section 6033 Regarding the Reporting Requirements of Exempt Organizations.
TD 9902 | Guidance Under Sections 951A and 954 Regarding Income Subject to a High Rate of Foreign Tax.
TD 9917 | Guidance on the Determination of the Section 4968 Excise Tax Applicable to Certain Colleges and Universities.
TD 9933 | Unrelated Business Taxable Income Separately Computed for Each Trade or Business.
TD 9938 | Tax on Excess Tax-Exempt Organization Executive Compensation.
TD 9972 | Electronic-Filing Requirements for Specified Returns and Other Documents.
TD 9975 | Pre-Filing Registration Requirements for Certain Tax Credit Elections.
TD 9979 | Additional Guidance on Low-Income Communities Bonus Credit Program.
TD 9988 | Elective Payment of Applicable Credits; Elective Payment of Advanced Manufacturing Investment Credit; Final Rules; Election To Exclude Certain Unincorporated Organizations Owned by Applicable Entities From Application of the Rules on Partners and Partnerships.
TD 9998 | Increased Amounts of Credit or Deduction for Satisfying Certain Prevailing Wage and Registered Apprenticeship Requirements.

[FR Doc. 2025-14070 Filed 7-24-25; 8:45 am]

BILLING CODE 4830-01-P